DEPARTMENT OF JUSTICE

Notice of Lodging of Proposed Consent Decree Under the Toxic Substances Control Act

On August 22, 2024, the Department of Justice lodged a proposed consent decree with the United States District Court for the Southern District of New York in the lawsuit entitled United States v. Legacy Builders/Developers Corp., Civil Action No. 24 Civ. 6367.

In this action, the United States seeks injunctive relief from Legacy Builders/Developers Corp. in connection with the defendant's unlawful work practices during renovations governed the Renovation, Repair, and Painting Rule, 40 CFR part 745, subpart E, promulgated under the Toxic Substances Control Act (“TSCA”). The proposed consent decree resolves the United States' claims, requires Legacy Builders/Developers Corp. to pay $168,000, and imposes injunctive relief.

The publication of this notice opens a period for public comment on the consent decree. Comments should be addressed to the Assistant Attorney General, Environment and Natural Resources Division, and should refer to United States v. Legacy Builders/Developers Corp., D.J. Ref. No. 90-5-1-1-12249. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the consent decree may be examined and downloaded at this Justice Department website: http://www.justice.gov/enrd/consent-decrees. If you require assistance accessing the consent decree, you may request assistance by email or by mail to the addresses provided above for submitting comments.

Eric D. Albert,
Assistant Section Chief, Environmental Enforcement Section, Environment and Natural Resources Division.

[FR Doc. 2024-19347 Filed 8-27-24; 8:45 am]

BILLING CODE 4410-15-P